ENVIRONMENTAL PROTECTION AGENCY

[FRL-7372-7]

Request for Nominations to the National Advisory Council for Environmental Policy and Technology (NACEPT)

AGENCY: Environmental Protection Agency (EPA).

ACTION: Notice of request for nominations.

SUMMARY: The U.S. Environmental Protection Agency invites nominations to fill vacancies on its National Advisory Council for Environmental Policy and Technology (NACEPT). The Agency seeks qualified senior-level decision makers from diverse sectors throughout the United States to be considered for appointments. EPA will accept nominations until Friday, October 4, 2002.

ADDRESSES: Submit nominations to: Ms. Gwendolyn Whitt, Designated Federal Officer, Office of Cooperative Environmental Management, U.S. Environmental Protection Agency (1601E), 1200 Pennsylvania Avenue, NW, Washington, DC 20460.

SUPPLEMENTARY INFORMATION: NACEPT is a federal advisory committee under the Federal Advisory Committee Act, Public Law 92463. NACEPT provides advice and recommendations to the Administrator and other EPA officials on a broad range of domestic and international environmental policy issues.

The Administrator of EPA has asked NACEPT to provide advice in a timely manner and operate as a proactive and strategic body that will alert EPA to potential environmental challenges and issues that could impact the Agency's ability to protect public health and the environment, and options to address them. In addition, NACEPT members may be asked to advise the Administrator on other environmental policy priorities as needed. EPA seeks new members with broad expertise in strategic planning, visioning, and environmental stewardship.

NACEPT consists of a representative cross-section of EPA's partners, stakeholders, and constituents who provide timely advice and recommendations on environmental policy issues and serve as a sounding board for new strategies that the Agency is developing.

Members are appointed by the Administrator of EPA for one or two year terms with the possibility of reappointment. Each member's expertise and experience enables the Council to function in a timely and strategic manner. Critical issues, challenges, and solutions for addressing them are identified and presented to the Administrator for consideration. The Council usually meets 4-5 times annually and the average workload for the members is approximately 10 to 15 hours per month. Members serve on the Council in a voluntary capacity; however, EPA does provide reimbursement for travel expenses associated with official government business.

Maintaining a balance and diversity of expertise, knowledge, and judgement is an important consideration in the selection of members. Potential candidates should possess the following qualifications:

Occupy a senior position within their organization

Broad experience outside of their current position

Experience dealing with public policy issues

Membership in broad-based networks

Extensive experience in the environmental field

Recognized expert in the subject matter to be addressed by NACEPT

EPA is seeking nominees for representation from all sectors, in particular federal, state, local and tribal agencies, academia, environmental justice organizations, grassroots organizations, and NGOs.

Nominations for membership must include a resume and short biography describing the educational and professional qualifications of the nominee and the nominee's current business address and daytime telephone number.

FOR FURTHER INFORMATION CONTACT: Gwendolyn Whitt, Designated Federal Officer for NACEPT, U.S. Environmental Protection Agency (1601E), 1200 Pennsylvania Avenue, NW, Washington, DC 20460; telephone (202) 233-0090, e-mail: whitt.gwen@epa.gov.

Dated: August 29, 2002.
Gwendolyn Whitt,
Designated Federal Officer.

[FR Doc. 02-22815 Filed 9-6-02; 8:45 am]

BILLING CODE 6560-50-P